DEPARTMENT OF THE INTERIOR

National Park Service

[NPS-WASO-NRNHL-DTS#-31341; PPWOCRADI0, PCU00RP14.R50000]

National Register of Historic Places; Notification of Pending Nominations and Related Actions

AGENCY: National Park Service, Interior.

ACTION: Notice.

SUMMARY: The National Park Service is soliciting electronic comments on the significance of properties nominated before January 2, 2021, for listing or related actions in the National Register of Historic Places.

DATES: Comments should be submitted electronically by February 5, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before January 2, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

HAWAII

Kauai County

Coco Palms Resort, 4-241 Kuhio Highway, Kapaa, SG100006139

MASSACHUSETTS

Plymouth County

Old Town Hall Historic District, 774, 842, 862, and 878 Tremont St., Duxbury, SG100006129

Suffolk County

Lawrence Avenue Historic District, Blue Hill Ave., Lawrence Ave., Coleus Park, Magnolia St., and Intervale St., Boston, SG100006127

Greenville Street Historic District, 2, 6-25 Greenville St., Boston, SG100006134

MICHIGAN

Wayne County

New Bethel Baptist Church, (The Civil Rights Movement in Detroit, Michigan, 1900-1976 MPS), 8430 Linwood St., Detroit, MP100006130

Parks, Rosa L. (McCauley) and Raymond, Flat

(The Civil Rights Movement in Detroit, Michigan, 1900-1976 MPS), 3201-3203 Virginia Park St., Detroit, MP100006131

Shrine of the Black Madonna of the Pan African Orthodox Christian Church

(The Civil Rights Movement in Detroit, Michigan, 1900-1976 MPS), 7625 Linwood St., Detroit, MP100006132

MISSISSIPPI

Hinds County

Wiener, Dr. Julian and Kathryn, House, 3858 Redbud Rd., Jackson, SG100006137

Marshall County

Old Philadelphia Church, Corner of Harris Ln. and North Red Banks Rd., Red Banks, SG100006142

NEW YORK

Herkimer County

Library Bureau-Remington Rand-Sperry UNIVAC Manufacturing Complex, 7 Spruce St., Ilion, SG100006144

Monroe County

Brockport West Side Historic District, Portions of Main, Holley, Utica, College, Maxon, Adams, Mercer, Allen, Chappell Sts., Centennial Ave., Brockway Pl., and Monroe Ave., Brockport, SG100006145

Westchester County

New York Central & Hudson River Railroad Power Station, 45 Water Grant St., Yonkers, SG100006146

OHIO

Perry County

Ludowici Roof Tile Company Historic District, 4757 Tile Plant Rd., New Lexington, SG100006136

Summit County

Oviatt, Orson Minot, House, 3758 Brecksville Rd., Richfield, SG100006141

Van Wert County

Downtown Van Wert Historic District, Roughly bounded by Jackson St., Town Creek, Central Ave., and Cherry St., Van Wert, SG100006140

OREGON

Multnomah County

Cook, Jacob H. and Etna M., House, 5631 SE Belmont St., Portland, SG100006123

Pallay Apartments

(Portland Eastside MPS), 631 SE Taylor St., Portland, MP100006124

Patton Home

4619 North Michigan Ave., Portland, SG100006125

Umatilla County

Rice, Gonzalez M. and Maude R., House, 503 North Main St., Pendleton, SG100006126

VERMONT

Windsor County

Eldredge, Wentworth and Diana, House, (Mid-Century Modern Residential Architecture in Norwich, Vermont MPS), Address Restricted, Norwich vicinity, MP100006133

Additional documentation has been received for the following resources:

SOUTH DAKOTA

Codington County

Olive Place (Additional Documentation), 223 14th Ave. NW, Watertown vicinity, AD78002547

UTAH

Cache County

Gardner, James, House (Additional Documentation), 173 North Main St., Mendon, AD82004111

Authority: Section 60.13 of 36 CFR part 60

Dated: January 5, 2021.
Sherry Frear,
Chief, National Register of Historic Places/National Historic Landmarks Program.

[FR Doc. 2021-01181 Filed 1-19-21; 8:45 am]

BILLING CODE 4312-52-P